DEPARTMENT OF THE INTERIOR

Bureau of Indian Affairs

Tribal Consultation on Proposed Special Education Policies and Procedures

AGENCY: Bureau of Indian Affairs, Interior.

ACTION: Notice of tribal consultation meetings.

SUMMARY: The Bureau of Indian Education (BIE), Division of Performance and Accountability (DPA), will conduct tribal consultation meetings to obtain oral and written comments on proposed BIE Special Education Policies and Procedures. The proposed policies and procedures are available at http://www.enan.bia.edu under the “News and Announcements” section of the Web site or by calling the individual in the FOR FURTHER INFORMATION CONTACT section of this notice.

DATES: The SUPPLEMENTARY INFORMATION section contains the complete schedule for the consultation meetings. Submit written comments on the proposed BIE Special Education Policies and Procedures by December 15, 2008, to the address stated in the ADDRESSES section.

ADDRESSES: Send or hand-deliver written comments on the proposed BIE Special Education Policies and Procedures to Stan Holder, Chief, Division of Performance and Accountability, 1011 Indian School Road, NW., Suite 332, Albuquerque, New Mexico 87104. Submissions by facsimile should be sent to (505) 563-5281.

FOR FURTHER INFORMATION CONTACT: Gloria Yepa, (505) 563-5264. You may obtain a copy of the proposed BIE Special Education Policies and Procedures by contacting Sally Hollow Horn at (505) 563-5276 or by visiting the Web site http://www.enan.bia.edu.

SUPPLEMENTARY INFORMATION:

Background

In order to receive Federal funds (“Part B funds”) available under the Individuals with Disabilities Education Act of 2004 (IDEA), the BIE must meet eligibility requirements identified in the law. The U.S. Department of Education published final regulations, which became effective on October 13, 2006, implementing Part B of IDEA regarding eligibility for Federal funds. See 71 FR 46540 (August 14, 2006). BIE has drafted the proposed Special Education Policies and Procedures, which revises its 2002 Eligibility Document, to ensure consistency with IDEA and the U.S. Department of Education's final regulations. All Bureau-funded schools, including grant and contract schools, must comply with the policies and procedures to be eligible to receive Part B funding and ensure that students with disabilities are appropriately served.

Purpose of the Consultation

The purpose of the consultation is to provide Indian tribes, school boards, parents, Indian organizations, and other interested parties with an opportunity to comment on the BIE's proposed Special Education Policies and Procedures. The proposed policies and procedures are available by calling the individual in the FOR FURTHER INFORMATION CONTACT section of this notice.

Meeting Schedule
Date | Location | Local contact | Phone No.
November 12 | Phoenix, AZ | Luvette Russell | 602-265-1592
November 12 | Minneapolis, MN | Lynn Lafferty | 612-713-4400
November 13 | Albuquerque, NM | Bart Stevens | 505-563-5235
November 13 | Rapid City, SD | Norma Tibbetts | 605-867-3601
November 14 | Seattle, WA | Tony Dearman | 206-220-7975
November 14 | Nashville, TN | Roxanne Brown | 615-564-6636

A consultation booklet for the meetings is being distributed to federally recognized Indian tribes, Bureau of Indian Affairs Regional and Agency Offices and BIE-funded schools. The booklets will also be available from local contact persons at each meeting. The consultation booklet contains the information presented in this notice, as well as additional background information. For specific meeting location information, please contact the local contacts at the telephone numbers listed above.

Suggested Format for Comments

Because BIE anticipates receiving many comments from meeting participants, please include the following information, if possible:

• Specific suggestions or concerns related to the proposed Special Education Policies and Procedures;

• The name of the commenter; and

• The name and address of the organization, if any, that the commenter represents.

Public Comment Availability

Comments, including names, street addresses, and other contact information of respondents, will be available for public review at the address listed under the ADDRESSES section during regular business hours (7:45 a.m. to 4:15 p.m. EST), Monday through Friday, except Federal holidays. Before including your address, telephone number, e-mail address, or other personal identifying information in your comment, be advised that your entire comment—including your personal identifying information—may be made publicly available at any time. While you can ask us in your comment to withhold from public review your personal identifying information, we cannot guarantee that we will be able to do so.

Authority: This notice is published in accordance with the authority delegated by the Secretary of the Interior to the Principal Deputy Assistant Secretary—Indian Affairs by 209 DM 8.1.

Dated: October 14, 2008.
George T. Skibine,
Acting Deputy Assistant Secretary for Policy and Economic Development—Indian Affairs.

[FR Doc. E8-25203 Filed 10-23-08; 8:45 am]

BILLING CODE 4310-6W-P